DEPARTMENT OF LABOR

Approval of Information Collection Requirements; Comment Request

AGENCY: Office of Federal Contract Compliance Programs, Labor.

ACTION: Notice.

SUMMARY: The Department of Labor, as part of its continuing effort to reduce paperwork and respondent burden, conducts a pre-clearance consultation program to provide the general public and Federal agencies with an opportunity to comment on proposed and continuing collections of information in accordance with the Paperwork Reduction Act of 1995 (PRA). 44 U.S.C. 3506(c)(2)(A). This program helps to ensure that requested data can be provided in the desired format, reporting burden (time and financial resources) is minimized, collection instruments are clearly understood, and the impact of collection requirements on respondents can be properly assessed. Currently, the Office of Federal Contract Compliance Programs is soliciting comments on its proposal to implement standard procedures for supply and service contractors seeking approval to develop affirmative action programs based on functional or business units. A copy of this information collection request (ICR), with applicable supporting documentation; including among other things a description of the likely respondents, proposed frequency of response, and estimated total burden may be obtained from the RegInfo.gov Web site at http://www.reginfo.gov/public/do/PRAMain or by contacting the office listed below in the addresses section of this Notice.

DATES: Written comments must be submitted to the office listed in the addresses section below on or before July 23, 2012.

ADDRESSES: You may submit comments, identified by Control Number 1250-XXXX, by either one of the following methods:

Electronic comments: through the Federal eRulemaking portal at http://www.regulations.gov. Follow the instructions for submitting comments.

Mail, Hand Delivery, Courier: Debra A. Carr, Director, Division of Policy, Planning and Program Development, Office of Federal Contract Compliance Programs, 200 Constitution Avenue NW., Room C-3325, Washington, DC 20210. Telephone: (202) 693-0103 (voice) or (202) 693-1337 (TTY).

Instructions: Please submit one copy of your comments using only one of the methods listed above. All submissions must include the name of the agency and the Control Number for this information collection, as identified above. Because we continue to experience delays in receiving mail in the Washington, DC area, commenters are strongly encouraged to transmit their comments electronically via the regulations.gov Web site or to submit them by mail early. Comments, including any personal information provided, become a matter of public record and will be posted to the regulations.gov Web site. They will also be summarized or included in the request for Office of Management and Budget approval of the information collection request.

FOR FURTHER INFORMATION CONTACT: Debra A. Carr, Director, Division of Policy, Planning and Program Development, Office of Federal Contract Compliance Programs, Room C-3325, 200 Constitution Avenue NW., Washington, DC 20210. Telephone: (202) 693-0103 (voice) or (202) 693-1337 (TTY) (these are not toll-free numbers). Copies of this notice may be obtained in alternative formats (Large Print, Braille, Audio Tape or Disc), upon request, by calling (202) 693-0103 (not a toll-free number). TTY/TDD callers may call (202) 693-1337 (not a toll-free number) to obtain information or request materials in alternative formats.

SUPPLEMENTARY INFORMATION:

I. Background

The Office of Federal Contract Compliance Programs (OFCCP) administers three nondiscrimination and equal employment opportunity laws. These authorities prohibit employment discrimination and require affirmative action to ensure that equal employment opportunities are available regardless of race, sex, color, national origin, religion, or status as a qualified individual with a disability or protected veteran by Federal contractors.

• Executive Order 11246, as amended (EO 11246);

• Section 503 of the Rehabilitation Act of 1973, as amended, 29 U.S.C. 793; and

• The affirmative action provisions of the Vietnam Era Veterans' Readjustment Assistance Act of 1974, as amended, 38 U.S.C. 4212.

For purpose of this clearance, the regulations implementing Executive Order 11246 permit Federal supply and service contractors to develop affirmative action programs (AAPs) that are based on business function or business unit rather than AAPs based on establishments.¹ Functional affirmative action programs (FAAPs) are designed to provide contractors with the option of creating AAPs that better fit their business needs. To develop and implement a FAAP, Federal contractors must receive written approval from the Director ² of OFCCP. On March 21, 2002, OFCCP issued guidance outlining procedures for approving contractors' requests to use functional AAPs.³ Subsequently, on June 14, 2011, OFCCP issued new guidance and established standard procedures for FAAP approvals.⁴ This Information Collection Request (ICR) addresses the collection of information associated with the process for obtaining, modifying, updating, and renewing an agreement that allows contractors to develop and use functional AAPs.

¹ 41 CFR 60-2.1(d)(4)

² The “Director” was formerly known as the Deputy Assistant Secretary.

³ OFCCP ADM Notice: Functional Affirmative Action Programs (FAAP), Transmittal Number 254.

⁴ Directive 296, Functional Affirmative Action Programs, issued in June 14, 2011, rescinds Directive 254.

A separate ICR, approved by the Office of Management and Budget (OMB) under OMB number 1250-0003, addresses developing establishment-based AAPs and scheduling compliance evaluations for supply and service contractors with establishment-based AAPs.

II. Review Focus

The Department of Labor is particularly interested in comments which:

• Evaluate whether the proposed collection of information is necessary for the compliance and enforcement functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of this new ICR so that it can enforce the anti-discrimination and affirmative action provisions of the legal authorities it administers.

Type of Review: Notice.

Agency: Office of Federal Contract Compliance Programs.

Title: Agreement Approval Process for Use of Functional Affirmative Action Programs.

OMB Number: 1250-XXXX.

Agency Number: None.

Affected Public: Business or other for-profit, Not-for-profit institutions.

Total Respondents: 121.

Total Annual Responses: 121.

Average Time per Response (approximation due to rounding): 20 hours.

Estimated Total Burden Hours (approximation due to rounding): 2,179.

Frequency: On occasion.

Total Burden Cost (capital/startup): $0.

Total Burden Cost (operating/maintenance): $81,816.

Comments submitted in response to this notice will be summarized and/or included in the request for Office of Management and Budget approval of the information collection request; they will also become a matter of public record.

Dated: May 14, 2012.
Debra A. Carr,
Director, Division of Policy, Planning and Program Development, Office of Federal Contract Compliance Programs.

[FR Doc. 2012-12191 Filed 5-21-12; 8:45 am]

BILLING CODE 4510-45-P